DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council's (Council) Recreational Advisory Panel will meet to consider actions affecting New England fisheries in the exclusive economic zone (EEZ).

DATES: The meeting will be held on Tuesday, May 15, 2012 at 9 a.m.

ADDRESSES: The meeting will be held at the Sheraton Colonial, One Audubon Road Wakefield, MA 01880; telephone: (781) 245-9300; fax: (781) 245-0842.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Agenda

The Recreational Advisory Panel (RAP) will meet to discuss Northeast Multispecies management measures for fishing year 2013 and beyond. RAP members will discuss potential recreational fishing measures for Gulf of Maine cod, Georges Bank cod, Gulf of Maine haddock, and other stocks. The panel may consider such measures as bag limits, minimum size adjustments, seasons, or closed areas. The panel may consider using measures that differ between the party/charter and private fleets. The RAP will also discuss Annual Catch Limits and Accountability Measures, and may recommend changes to how these are implemented for the groundfish fishery. RAP members will also discuss commercial fishing activity in the inshore Gulf of Maine and the possible effects it may have on recreational fishing opportunities. Other business may also be discussed. RAP recommendations will be considered by the Groundfish Oversight Committee at a future date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: April 24, 2012.
Tracey L. Thompson,
Acting Director, Office of Sustainable Fisheries, National Marine Fisheries Service.

[FR Doc. 2012-10152 Filed 4-26-12; 8:45 am]

BILLING CODE 3510-22-P